DEPARTMENT OF COMMERCE

National Oceanic and Atmospheric Administration

50 CFR Part 679

[Docket No. 000627195-0195-01; I.D. 060500C]

RIN 0648-AN94

Fisheries of the Exclusive Economic Zone Off Alaska; Seasonal Adjustment of Closure Areas to Trawl Gear in the Central Regulatory Area of the Gulf of Alaska; Withdrawal of Proposed Rule

AGENCY: National Marine Fisheries Service (NMFS), National Oceanic and Atmospheric Administration (NOAA), Commerce.

ACTION: Proposed rule; withdrawal.

SUMMARY: NMFS withdraws the July 3, 2000, proposed regulatory amendment that would implement a seasonal closure of a portion of the Central Regulatory Area of the Gulf of Alaska (GOA) to vessels using trawl gear and that would implement an inseason action to open directed fishing for pollock within 10 nautical miles of the Steller sea lion haulouts located at Gull Point and Cape Barnabas for research purposes. The proposed rule is withdrawn because of current litigation on the existing Steller sea lion protection measures.

DATES: This proposed rule is withdrawn on October 2, 2000.

FOR FURTHER INFORMATION CONTACT: Thomas Pearson (907) 481-1780, fax (907) 481-1781.

SUPPLEMENTARY INFORMATION: A proposed rule was published on July 3, 2000 (65 FR 41044), that would impose a ban on all trawl fishing in the Chiniak Gully region on the east side of Kodiak Island and would authorize a temporary reopening of the 10-nm zones around Gull Point and Cape Barnabas to directed fishing for pollock. These management measures would have been in effect annually during the period of August 1st to no later than September 20 in the years 2000-2003. Rationale for the proposed actions was provided in the preamble to the proposed rule and is not repeated here.

On July 19, 2000, the United States District Court for the Western District of Washington issued an order that granted a motion for a partial injunction of the North Pacific groundfish fisheries. Greenpeace v. NMFS, No. C98-4922. This motion, filed by Greenpeace, American Oceans Campaign, and the Sierra Club requested injunctive relief until NMFS issues a legally adequate biological opinion addressing the combined, overall effects of the North Pacific groundfish fisheries on Steller sea lions and their critical habitat pursuant to the Endangered Species Act (ESA). The comprehensive biological opinion on the impacts of the groundfish fisheries of the Bering Sea and Aleutian Islands and the Gulf of Alaska on listed species (including the western population of Steller sea lions) under the ESA will not be released until October 31, 2000. Therefore, NMFS is hereby withdrawing the proposed rule to allow time for a thorough review of the new biological opinion, when it becomes available, before reinitiating rulemaking for the pollock fishery in order to protect Steller sea lions and their habitat.

Authority: 16 U.S.C. 1801 et seq.

Dated: September 26, 2000.
William T. Hogarth,
Deputy Assistant Administrator for Fisheries, National Marine Fisheries Service.

[FR Doc. 00-25222 Filed 9-29-00; 8:45 am]

BILLING CODE 3510-22-S